Social Security Administration

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer, 1333 Annex Building, 6401 Security Blvd., Baltimore, MD 21235; Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Statement of Household Expenses and Contributions—20 CFR 416.1130-416.1148—0960-0456. SSA needs the information about household expenses and contributions, which is collected on Form SSA-8011-F3, to determine whether the claimant or beneficiary receives in-kind support and maintenance. This is necessary to determine the claimant's or beneficiary's eligibility for Supplemental Security Income (SSI) and the amount of benefits payable. This form is not used for all claims and posteligibility determinations; rather, it is used only when it is necessary to document in-kind support and maintenance and only in cases where the householder's corroboration is needed. Respondents are SSI applicants and/or beneficiaries.

Type of Request: Extension of an OMB-approved information collection.

Number of Respondents: 400,000.

Frequency of Response: 1.

Average Burden per Response: 15 minutes.

Estimated Annual Burden: 100,000 hours.

2. Representative Payee Report of Benefits and Dedicated Account—20 CFR 416.546, 416.635, 416.640, 416.665—0960-0576. The Social Security Act provides for representative payees (RPs) to submit a written report accounting for the use of money paid to Supplemental SSI beneficiaries, and that RPs must establish and maintain a dedicated account for these payments. The SSA-6233 is used to ensure that the RP is using the benefits received for the beneficiary's current maintenance and personal needs, and the expenditures of funds from the dedicated account are in compliance with the law. Respondents are representative payees for SSI beneficiaries.

Type of Request: Extension of an OMB-approved information collection.

Number of Respondents: 30,000.

Frequency of Response: 1.

Average Burden per Response: 20 minutes.

Estimated Annual Burden: 10,000 hours.

3. Request for Reinstatement (Title II)—20 CFR 404.1592b—404.1592f—0960-NEW. Form SSA-371 is used by former beneficiaries for Title II benefits who wish to request Expedited Reinstatement (EXR) of their Title II disability benefits. SSA uses the SSA-371 to obtain a signed statement from the individual stating a request for EXR and to verify that the applicant meets the EXR requirements. The form will be maintained in the disability folder of the applicant to demonstrate that the individual was aware of the EXR requirements and chose to request EXR. Respondents are applicants for EXR of Title II disability benefits.

Type of Request: Existing Information Collection in Use Without an OMB Number.

Number of Respondents: 10,000.

Frequency of Response: 1.

Average Burden per Response: 2 minutes.

Estimated Annual Burden: 333 hours.

4. Request for Reinstatement (Title XVI)—20 CFR 416.999—416.999d—0960-NEW. Form SSA-372 is used by former SSI claimants who wish to request Expedited Reinstatement (EXR) of their Title XVI disability payments. SSA uses the SSA-372 to obtain a signed statement from the individual stating a request for EXR and to verify that the requestor meets the EXR requirements. The form will be maintained in the disability folder of the applicant to demonstrate that the individual was aware of the EXR requirements and chose to request EXR. Respondents are applicants for EXR of Title XVI SSI payments.

Type of Request: Existing Information Collection in Use Without an OMB Number.

Number of Respondents: 2,000.

Frequency of Response: 1.

Average Burden per Response: 2 minutes.

Estimated Annual Burden: 67 hours.

5. Non-Attorney Representative Demonstration Project Application—0960-0669. Section 303 of the Social Security Protection Act of 2004 (SSPA) provides for a 5-year demonstration project to be conducted by SSA under which the direct payment of SSA-approved fees is extended to certain non-attorney claimant representatives. Under the SSPA, to be eligible for direct payment of fees, a non-attorney representative must fulfill the following statutory requirements: (1) Possess a bachelors degree or have equivalent qualifications derived from training and work experience; (2) pass an examination that tests knowledge of the relevant provisions of the Social Security Act; (3) secure professional liability insurance or equivalent insurance; (4) pass a criminal background check (information on these 4 requirements will be collected during initial reporting); (5) demonstrate completion of relevant continuing education courses (this information will be collected under the Continuing Education (CE) reporting), and (6) complete an annual Affirmations Worksheet to verify the participant's continued eligibility to participate in the demonstration project.

SSA collects this information through the services of a private contractor and uses it to determine if a non-attorney representative has met and continues to meet the statutory requirements to be eligible for direct payment of fees for his or her claimant representation services. The respondents are non-attorney representatives who apply for direct payment of fees.

Type of Request: Revision of an existing information collection.

Application Reporting

Number of Respondents: 500.

Frequency of Response: 1.

Average Burden per Response: 60 minutes.

Estimated Annual Burden: 500 hours.

CE Reporting

Number of Respondents: 300.

Frequency of Response: 1.

Average Burden per Response: 30 minutes.

Estimated Annual Burden: 150 hours.

Annual Reaffirmations Worksheet

Number of Respondents: 450.

Frequency of Response: 1.

Average Burden per Response: 10 minutes.

Estimated Annual Burden: 75 hours.

Total burden hours for all collection activities—725 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Employment Relationship Questionnaire—20 CFR 404.1007—0960-0040. Form SSA-7160-F4 is used in developing the question of employer-employee relationships, except where the worker is an officer of a corporation. This form gathers the information needed for developing the employment relationship, and determining whether a beneficiary is self-employed or an employee. Respondents are beneficiaries questioning their status as employees and employers.

Type of Request: Extension of an OMB-approved information collection.

Number of Respondents: 16,000.

Frequency of Response: 1.

Average Burden per Response: 25 minutes.

Estimated Annual Burden: 6,667 hours

2. Vocational Rehabilitation Provider Claim—20 CFR 404.2108(b), 404.2117(c)(1)&(2), 404.2101(b)&(c), 404.2121(a), 416.2208(b), 416.2217(c)(1)&(2), 416.2201(b)&(c), 416.2221(a)—0960-0310. The Social Security Administration (SSA) refers certain disability beneficiaries to State Vocational Rehabilitation (VR) agencies. The State VR agencies use the SSA-199 to make claims for reimbursement of the costs incurred from providing VR services for the beneficiaries. The information collected on the SSA-199 is used by SSA to determine whether or not, and how much, to pay the State VR agencies under SSA's VR program. Respondents are State VR agencies who offer Vocational and Employment services for SSA beneficiaries.

Type of Request: Revision of an OMB-approved information collection.

Number of Respondents: 80.

Type of response (as explained below) | Number of respondents | Frequency of response | Total responses | Average burden per response (minutes) | Estimated annual burden hours
a. (404.2108 and 416.2208) | 80 | 160 each/year | 12,800 | 23 | 4,907
b. (404.2117 and 416.2217) | 80 | 1 per year | 80 | 60 | 80
c. (404.2121 and 416.2221) | 80 | 2-3 per year | 200 | 100 | 333
Total | 80 |  | 13,080 |  | 5,320

Estimated Annual Burden: 5,320 hours.

3. Pilot Program for Participating in Administrative Law Judge Hearings by Using Privately Owned Video Teleconferencing (VTC) Equipment—20 CFR 404.936(c) & 416.1436(c)—0960-NEW.

Background

On February 3, 2003, the Commissioner of Social Security published a final rule allowing SSA to conduct hearings before administrative law judges (ALJs) at which a party or parties to the hearing and/or a witness or witnesses may appear before the ALJ by video teleconferencing (68 FR No. 22 , 5210). In that final rule we noted that dialing into SSA's VTC network from private facilities, such as facilities owned by a law firm, could be possible at a future date. Appearances by video teleconference are also central to the rules for the new disability determination process (final rule published March 31, 2006 71 FR No. 62, 16423). Pursuant to these rules, SSA is now preparing to pilot a program wherein private representatives and their clients may appear at ALJ hearings using privately owned video equipment.

The VTC Activity

SSA plans to expand its Video Teleconferencing program of Administrative Law Judge hearings by allowing these hearings to be conducted from private representative sites that have been certified by the agency. Representatives who are interested in participating in the pilot program or the permanent program will need to provide some basic information about their location, the area they serve and their expected workload. Because private video sites are being used, the pilot guidelines provide for site inspections, certain on-the-record certifications and other claimant safeguards to help ensure that no claimants are disadvantaged by participating in their hearing from a private site. Respondents to this collection will be the claimant's representatives who elect to participate in the pilot. The pilot is structured to begin with 10 private video sites expanding to 30 private sites after a six-month evaluation period. There will be a second evaluation period after the 30 sites have operated for a six-month period. SSA will then make final decisions regarding operating procedures for a permanent program.

Type of Request: New Information Collection.

Total Burden Hours for all Collections: 717 burden hours (shown below).

Phase-I
[10 sites for 6 months]
Collection activity | Number of respondents | Frequency of response | Average burden per response (minutes) | Estimated annual burden hours
Expression of Interest/Initial Contact | 100 | 1 | 15 | 25
Certifications Made in the Opening Statement of the Hearing | 10 | 100 | 10 | 167
Totals | 110 |  |  | 192

Phase-II
[30 sites for 6 months]
Collection activity | Number of respondents | Frequency of response | Average burden per response (minutes) | Estimated annual burden hours
Expression of Interest/Initial Contact | 100 | 1 | 15 | 25
Certifications Made in the Opening Statement of the Hearing | 30 | 100 | 10 | 500
Totals | 130 |  |  | 525

The estimated first year cost burden for all respondents to participate in the Privately Owned VTC Equipment pilot is—$450,000. This cost figure represents the agency's estimated for respondents to purchase and maintain video conferencing equipment, a FAX machine and a document camera as well as the cost of an ISDN line or other data connection to the public network.

Dated: October 26, 2006.
Elizabeth A. Davidson,
Reports Clearance Officer, Social Security Administration.

[FR Doc. E6-18322 Filed 10-31-06; 8:45 am]

BILLING CODE 4191-02-P